DEPARTMENT OF COMMERCE

International Trade Administration

[A-533-840, A-549-822]

Certain Frozen Warmwater Shrimp From India and Thailand: Notice of Extension of Time Limits for the Preliminary Results of the 2009-2010 Administrative Reviews

AGENCY: Import Administration, International Trade Administration, Department of Commerce.

FOR FURTHER INFORMATION CONTACT: Elizabeth Eastwood, AD/CVD Operations, Office 2, Import Administration, International Trade Administration, U.S. Department of Commerce, 14th Street and Constitution Avenue, NW., Washington, DC 20230; telephone (202) 482-3874.

Background

On April 7, 2010, the Department of Commerce (the Department) published a notice of initiation of the administrative reviews of the antidumping duty orders on certain frozen warmwater shrimp from Brazil, India, and Thailand covering the period February 1, 2009, through January 31, 2010. See Certain Frozen Warmwater Shrimp from Brazil, India, and Thailand: Notice of Initiation of Administrative Reviews, 75 FR 17693 (Apr. 7, 2010).

On July 9, 2010, the Department selected respondents for individual examination in the India and Thailand reviews and issued questionnaires to them.¹ See the July 9, 2010, memoranda from Elizabeth Eastwood to James Maeder entitled, “2009-2010 Antidumping Duty Administrative Review of Certain Frozen Warmwater Shrimp from India: Selection of Respondents for Individual Review,” and “2009-2010 Antidumping Duty Administrative Review on Certain Frozen Warmwater Shrimp from Thailand: Selection of Respondents for Individual Review.” We received responses to these questionnaires in August and September 2010.

¹ The Department rescinded the administrative review of certain frozen warmwater shrimp from Brazil on June 10, 2010. See Certain Frozen Warmwater Shrimp from Brazil: Notice of Rescission of Antidumping Duty Administrative Review, 75 FR 32915 (June 10, 2010).

Extension of Time Limit of Preliminary Results

Section 751(a)(3)(A) of the Tariff Act of 1930, as amended (the Act), requires the Department to make a preliminary determination in an administrative review within 245 days after the last day of the anniversary month of an order or finding for which a review is requested. Consistent with section 751(a)(3)(A) of the Act, the Department may extend the 245-day period to 365 days if it is not practicable to complete the review within a 245-day period. The deadline for the preliminary results of these administrative reviews is currently November 1, 2010.² The Department determines that completion of the preliminary results of these reviews within the statutory time period is not practicable because it is examining: (1) An allegation of a particular market situation for the respondents in Thailand; and (2) a cost allegation from the petitioner for Apex Exports in India. The Department thus requires additional time to conduct its analysis for each of these reviews. Therefore, in accordance with section 751(a)(3)(A) the Act, we are extending the time period for issuing the preliminary results of these reviews until March 1, 2011. The final results continue to be due 120 days after the publication of the preliminary results.

² The original due date for the preliminary results, October 31, 2010, is a Sunday.

This notice is published pursuant to section 751(a)(3)(A) of the Act and 19 CFR 351.213(h)(2).

Dated: October 1, 2010.
Susan H. Kuhbach,
Acting Deputy Assistant Secretary for Antidumping and Countervailing Duty Operations.

[FR Doc. 2010-25306 Filed 10-6-10; 8:45 am]

BILLING CODE 3510-DS-P